FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

China International Freight (USA), LLC, 1100 Larkspur Landing Circle, Suite 290, Larkspur, CA 94939. Officers: Thomas R. Waters, President, (Qualifying Individual), Layne Dorr, Vice President.

Unique Logistics International (NYC), LLC, One Cross Island Plaza, Suite 305, Rosedale, NY 11422. Officers: Dawn Lowry, Treasurer, (Qualifying Individual), John Fitzpatrick, Manager.

Seamster Logistics Inc. dba Seamaster Logistics, 547 Boulevard, Kenilworth, NJ 07033. Officers: Richard Shannon, Asst. Secretary, (Qualifying Individual), Peter Stone, President.

16 East Tremont Corp. dba American & Caribbean Shipping, 13 East Tremont Avenue, Bronx, NY 10453. Officers:Nuris Estela Minaya, Vice President, (Qualifying Individual), Santiago Batista, President.

JWJ Express Inc., 149-23 182nd Street, Suite 100, Jamaica, NY 11413. Officers: Fan Gho Kung, Vice President, (Qualifying Individual), Sanghwan Lee, President.

Non-Vessel—Operating Common Carrier and Ocean Freight Forwarder Transportation Intermediary Applicants:

Freight It, Inc., 11222 La Cienega Blvd., Suite 471, Inglewood, CA 90304. Officers: Taher C. Hussaini, CEO, (Qualifying Individual), Amir G. Fekri, Vice President.

Maritima Auto Exports, Inc., Edificio 1026 Caretera 28-Zona, (Port) Portuaria, Puerto Nuevo, PR 00920. Officer: Michael A. Feliciano, President, (Qualifying Individual).

Transplace International, Inc., 509 Enterprise Drive, Lowell, AR 72745. Officers: Kevin L. Higgins, Vice Pres. Logistics, (Qualifying Individual), Jun-Sheng Li, President.

Ocean Freight Forwarder—Ocean Transportation Intermediary Applicants

All Shore Forwarders, Ltd., One River Centre, 331 Newman Springs Road, Red Bank, NJ 07701. Officers: Brian A. Weiner, President, (Qualifying Individual).

Haines International, Inc., 1450 Church Street, Rahway, NJ 07065. Officers:Craig M. Haines, President, (Qualifying Individual).

Dated:September 15, 2006.
Bryant L. VanBrakle,
Secretary.

[FR Doc. 06-7799 Filed 9-19-06; 8:45 am]

BILLING CODE 6730-01-P